DEPARTMENT OF HOUSING AND URBAN DEVELOPMENT

[Docket No. FR-4820-N-38]

Notice of Proposed Information Collection: Comment Request; Single Family Acquired Asset Management System (SAMS)

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: December 2, 2003.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Joseph McCloskey, Director, Office of Single Family Asset Management, Department of Housing and Urban Development, 451 7th Street, SW., Washington, DC 20410, telephone (202) 708-1672 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond, including the use of appropriate automated collection techniques or other forms of information technology, e.g., permitting electronic submission of responses.

This Notice also lists the following information:

Title of Proposal: Single Family Acquired Asset Management System (SAMS).

OMB Control Number, if applicable: 2502-0486.

Description of the need for the information and proposed use: This information collection is an integral part of HUD's ability to create and maintain sound financial management practices, and to maintain effective internal control over the property disposition program. In managing its program of acquired single-family properties, HUD reimburses contractors and vendors for their services in maintaining, marketing, and selling HUD homes, and collects funds the sales of these properties. The information is captured in HUD's automated Single Family Acquired Asset Management System. The system also is used to record and process financial transactions.

Agency form numbers, if applicable: Sams-1100, 1101, 1103, 1106, 1106-C, 1108, 1110, 1111, 1111-A, and 1117.

Estimation of the total numbers of hours needed to prepare the information collection including number of respondents, frequency of response, and hours of response: The estimated total number of hours needed to prepare the information collection is 65,870; the number of respondents is 272,950 generating approximately 272,950 annual responses; the frequency of response is on occasion; and the estimated time needed to prepare the response varies from 12 minutes to 30 minutes.

Status of the proposed information collection: Extension of a currently approved collection.

Authority: The Paperwork Reduction Act of 1995, 44 U.S.C., Chapter 35, as amended.

Dated: September 26, 2003.
Sean G. Cassidy,
General Deputy Assistant Secretary for Housing—Deputy Federal Housing Commissioner.

[FR Doc. 03-25038 Filed 10-2-03; 8:45 am]

BILLING CODE 4210-27-M